NUCLEAR REGULATORY COMMISSION

[ Docket No. 50-425]

Southern Nuclear Operating Company, Inc.; Vogtle Electric Generating Plant, Unit 2; Exemption

1.0 Background

The Southern Nuclear Operating Company, Inc. (SNC/licensee), is the holder of Facility Operating License Nos. NPF-68 and NPF-81, which authorize operation of the Vogtle Electric Generating Plant, Units 1 and 2 (VEGP Unit 1 and VEGP Unit 2), respectively. The licenses provide, among other things, that the facility is subject to all rules, regulations, and orders of the Nuclear Regulatory Commission (NRC, the Commission) now or hereafter in effect.

The facility consists of two pressurized-water reactors (PWRs) supplied by Westinghouse Electric Corporation, each rated at 3565 megawatts (thermal). The facility is located in Burke County, Georgia. This exemption addresses VEGP Unit 2.

2.0 Request/Action

Title 10 of the Code of Federal Regulations (10 CFR), Part 54.17(c) stipulates that an application for a renewed license may not be submitted to the Commission earlier than 20 years before the expiration of the operating license currently in effect.

By letter dated May 22, 2006, the licensee requested a schedular exemption from the 20-year restriction specified in 10 CFR 54.17(c) for VEGP Unit 2 so that the license renewal application (LRA) for both Vogtle Electric Generating Plant units can be prepared and submitted concurrently, with the goal of attaining efficiencies for preparation and review of the application. The current operating license for VEGP Unit 1 expires on January 16, 2027, whereas the current operating license for VEGP Unit 2 expires on February 9, 2029. At the time the exemption request was filed, VEGP Unit 1 had over 19 years of operating experience and VEGP Unit 2 had over 17 years of operating experience.

This exemption is required in order to allow an application for renewal of the VEGP Unit 2 license to be prepared and submitted concurrently with the LRA for VEGP Unit 1. Based on an anticipated submittal of a renewal application on June 28, 2007, VEGP Unit 1 will meet the requirements of 10 CFR 54.17(c) and the license renewal request for VEGP Unit 2 would occur approximately 2 years earlier than the earliest date allowed by 10 CFR 54.17(c).

3.0 Discussion

Pursuant to 10 CFR 54.15, the Commission may, upon application by any interested person or upon its own initiative, grant exemptions from the requirements of 10 CFR Part 54, in accordance with the provisions of 10 CFR 50.12, (1) when the exemptions are authorized by law, will not present an undue risk to public health or safety, and are consistent with the common defense and security; and (2) when special circumstances are present.

Authorized by Law

The Commission's basis for establishing the 20-year limit contained in Section 54.17(c) is discussed in the 1991 Statements of Consideration for Part 54 of 10 CFR (56 FR 64963). The limit was established to ensure that substantial operating experience was accumulated by a licensee before a renewal application is submitted such that any plant-specific concerns regarding aging would be disclosed. In amending the rule in 1995, the Commission sought public comment on whether the 20-year limit should be reduced. The Commission determined that sufficient basis did not exist to generically reduce the 20-year limit. However, the Commission did indicate in the Statements of Consideration for the amended rule (60 FR 22488), that it was willing to consider plant-specific exemption requests by applicants who believe that sufficient information is available to justify applying for license renewal prior to 20 years from expiration of the current license. SNC's exemption request is consistent with the Commission's intent to consider plant-specific requests and is permitted by 10 CFR 54.15. Therefore, the exemption is authorized by law.

The current operating licenses for VEGP Unit 1 and Unit 2, were issued in accordance with the Atomic Energy Act of 1954, as amended (AEA), and 10 CFR 50.51, which limit the duration of an operating license to a maximum of 40 years. In accordance with 10 CFR 54.31, the renewed license will be of the same class as the operating license currently in effect and cannot exceed a term of 40 years. Therefore, the terms of the renewal licenses for VEGP Unit 1 and Unit 2, are limited both by law and the Commission's regulations to 40 years. Additionally, 10 CFR 54.31(b) states that “A renewed license will be issued for a fixed period of time, which is the sum of the additional amount of time beyond the expiration of the operating license (not to exceed 20 years) that is requested in a renewal application plus the remaining number of years on the operating license currently in effect. The term of any renewed license may not exceed 40 years.”

The potential exists that, because SNC's decision to apply early for license renewal for VEGP Unit 2, SNC may not obtain the maximum 20-year extended operation permitted by 10 CFR 54.31(b). Any actual reduction will depend on the date the renewed licenses are issued. If a reduction in the 20-year extension is required, and SNC desires further extension of VEGP Units 2's operating licenses in the future, an additional renewal application can be submitted in accordance with 10 CFR Part 54.

Therefore, should the Commission determine to renew the VEGP Unit 2 operating license, the term of the license will not exceed 40 years, and granting of VEGP Unit 2's exemption request will not result in violation of the AEA or the Commission's regulations.

No Undue Risk to Public Health and Safety

This exemption will not result in changes to the operation of the plant. SNC's exemption request seeks only schedular relief regarding the date of submittal, and not substantive relief from the requirements of Parts 51 or Part 54. SNC must still conduct all environmental reviews required by Part 51 and all safety reviews and evaluations required by Part 54 when preparing the applications for VEGP Units 1 and 2. The NRC staff's review will verify that all applicable Commission regulations have been met before issuing the renewed licenses. Therefore, the NRC staff finds that granting this schedular exemption will not represent an undue risk to public health and safety.

Consistent With the Common Defense and Security

As discussed previously, the exemption requested is only a schedular exemption. The NRC staff will review the LRA SNC submits pursuant to the requested exemption, to assure all applicable requirements are fully met. This change has no relation to security issues. Therefore, the common defense and security is not impacted by this exemption.

Special Circumstances

An exemption will not be granted unless special circumstances are present as defined in 10 CFR 50.12(a)(2). Specifically, Section 50.12(a)(2)(ii) states that a special circumstance exists when “application of the regulation in the particular circumstances * * * is not necessary to achieve the underlying purpose of the rule.” In initially promulgating Section 54.17(c) in 1991, the Commission stated that the purpose of the time limit was “to ensure that substantial operating experience is accumulated by a licensee before it submits a renewal application” (56 FR 64963). At that time, the Commission found that 20 years of operating experience provided a sufficient basis for renewal applications. However, in issuing the amended Part 54 in 1995, the Commission indicated it would consider an exemption to this requirement if sufficient information was available on a plant-specific basis to justify submission of an application to renew a license before completion of 20 years of operation (60 FR 22488). The 20-year limit was imposed by the Commission to ensure that sufficient operating experience was accumulated to identify any plant-specific aging concerns. As set forth below, VEGP Unit 1 is sufficiently similar to Unit 2, such that the operating experience for VEGP Unit 1 is applicable to VEGP Unit 2. In addition, VEGP Unit 2 has accumulated significant operating experience. Accordingly, under the requested exemption, sufficient operating experience will have been accumulated to identify any plant-specific aging concerns for both units.

SNC stated that special effort was made during construction of VEGP to keep the designs of the two units the same. Both units are PWRs supplied by Westinghouse Electric Corporation with a design net core output of 3565 megawatts (thermal). The containment for each of the VEGP units is a steel-lined, prestressed, post-tensioned concrete cylinder with a hemispherical dome. SNC states that the two units have similar materials of construction of the systems, structures, and components and are typically identical.

These statements are supported by a review of the VEGP Updated Final Safety Analysis Report (UFSAR for Units 1 and 2). In particular, Section 1.3 of the UFSAR describes the similarities in design between VEGP Unit 1, VEGP Unit 2, and similar licensed reactor facilities. Table 1-3-1 of the UFSAR lists significant similarities between systems, structures and components installed at VEGP, including elements of the reactor system, the reactor coolant system, the engineered safety features, and auxiliary systems.

SNC also states that the Operating Experience Program ensures that operating experience originating from all sources is appropriately utilized at VEGP. Specifically, any operating experience originating with VEGP Unit 1 is systematically applied to Unit 2. Moreover, SNC states that since the two VEGP units are essentially the same in design, operation, maintenance, materials and environments, there will be little difference in the aging management analyses for the two units.

Based on the above discussion, the NRC staff concludes that, with respect to VEGP Unit 1 and VEGP Unit 2 containment design, structural configuration, and management of structural-related aging effects, the applicant has provided adequate justifications for the NRC consideration of granting the VEGP Unit 2 request for exemption from the requirements of 10 CFR 54.17(c).

Therefore, sufficient combined operating experience from VEGP Unit 1 and industry exists to satisfy the intent of 10 CFR 54.17(c), and the application of the regulation in this case is not necessary to achieve the underlying purpose of the rule. The NRC staff concludes that SNC's request meets the requirement, in Section 50.12(a)(2) of 10 CFR, that special circumstances exist to grant the exemption.

4.0 Conclusion

Accordingly, the Commission has determined that, pursuant to 10 CFR 50.12(a), the exemption is authorized by law, will not present an undue risk to the public health and safety, and is consistent with the common defense and security. Also, special circumstances are present. Therefore, the Commission hereby grants SNC an exemption from the requirements of 10 CFR 54.17(c). Specifically, this schedular exemption allows SNC to apply for a renewed license for VEGP Unit 2 earlier than 20 years before the expiration of the license currently in effect.

Pursuant to 10 CFR 51.32, the Commission has determined that the granting of this exemption will not have a significant effect on the quality of the human environment (71 FR 58014).

This exemption is effective upon issuance.

Dated at Rockville, Maryland, this 9th day of January 2007.
For the Nuclear Regulatory Commission.
John W. Lubinski,
Acting Director, Division of Operating Reactor Licensing, Office of Nuclear Reactor Regulation.

[FR Doc. E7-501 Filed 1-16-07; 8:45 am]

BILLING CODE 7590-01-P